DEPARTMENT OF THE INTERIOR

National Park Service

San Francisco National Historical Park Advisory Commission Meeting

AGENCY: National Park Service, Department of Interior.

Agenda for the July 11, 2001 Public Meeting of the Advisory Commission for the San Francisco Maritime National Historical Park; Building C Room 210, Lower Fort Mason Center, 10:00 AM-12:30 PM.

10:00 AM

Welcome—Neil Chaitin, Chairman

Opening Remarks—Neil Chaitin, Chairman

Approval of Minutes from Previous Meeting

10:15 AM

William Thomas, Superintendent

10:30 AM

C. A. Thayer, status

Michael Bell, Project Officer

10:45 AM

Haslett Visitor Center

Marc Hayman, C, Interpretation & Resource Management

11:15 AM

Sips Preservation Report

Wayne Boykin, Ships Manager

11:30 AM

Update on SFMNPA

Kathy Lohan, Executive Officer

12:00 PM

Public Comments and Questions

12:15 PM

Agenda items/Date for next meeting

William G. Thomas,
Superintendent.

[FR Doc. 01-14810 Filed 6-12-01; 8:45 am]

BILLING CODE 4310-70-P